DEPARTMENT OF LABOR

Employment and Training Administration

Notice of Funding Opportunity and Solicitation for Grant Application (SGA) for Green Jobs Innovation Fund

AGENCY: Employment and Training Administration, Labor.

ACTION: Notice of Solicitation for Grant Applications (SGA).

Funding Opportunity Number: SGA/DFA PY 10-07.

SUMMARY: Through this notice, the Department of Labor's Employment and Training Administration (ETA) announces the availability of approximately $40 million in grant funds authorized by the Workforce Investment Act of 1998, Title I, Subtitle D, Section 171(d), Public Law 105-220 for the Green Jobs Innovation Fund (GJIF) to increase the number of individuals completing training programs who receive industry-recognized credentials and to increase the number of individuals completing training programs for employment in green jobs. ETA proposes to fund approximately five to eight grants to national and statewide organizations with local affiliates with existing career training programs to provide technical and basic skills training that lead to green job opportunities in at least six communities per grant with this SGA. With these grants, the Department is emphasizing critical steps along green career pathways by: (1) Forging linkages between Registered Apprenticeship and pre-apprenticeship programs, and/or (2) integrating the delivery of technical and basic skills training through community-based partnerships.

The complete SGA and any subsequent SGA amendments, in connection with Workforce Investment Act of 1998, Title I, Subtitle D, Section 171(d), Public Law 105-220 for the Green Jobs Innovation Fund (GJIF) is described in further detail on ETA's Web site at http://www.doleta.gov or on http://www.grants.gov. The Web sites provide application information, eligibility requirements, review and selection procedures and other program requirements governing this solicitation.

DATES: The closing date for receipt of applications is March 29, 2011.

FOR FURTHER INFORMATION CONTACT: Kia Mason, 200 Constitution Avenue, NW., Room N4716, Washington, DC 20210; telephone: 202-693-2606.

Signed at Washington, DC, this 17th day of February, 2010.
Donna Kelly,
Grant Officer, Employment and Training Administration.

[FR Doc. 2011-4181 Filed 2-23-11; 8:45 am]

BILLING CODE 4510-FN-P